DEPARTMENT OF TRANSPORTATION

Federal Aviation Administration

Air Traffic Procedures Advisory Committee

AGENCY: Federal Aviation Administration (FAA), DOT.

SUMMARY: The FAA is issuing this notice to advise the public that a meeting of the Federal Aviation Air Traffic Procedures Advisory Committee (ATPAC) will be held to review present air traffic control procedures and practices for standardization, clarification, and upgrading of terminology and procedures.

DATES: The meeting will be held from Monday, January 26, from 1 p.m. to 4:30 p.m., and Tuesday, January 27 to Wednesday, January 28, from 9 a.m. to 4:30 p.m.

ADDRESSES: The meeting will be held at the Northern California TRACON, 11375 Douglas Road, Mather, California, 95655.

FOR FURTHER INFORMATION CONTACT: Mr. John A. Clayborn, Executive Director, ATPAC, Air Traffic Planning and Procedures, 800 Independence Avenue, SW., Washington, DC 20591, telephone (202) 267-3725.

SUPPLEMENTARY INFORMATION: Pursuant to Section 10(a)(2) of the Federal Advisory Committee Act (Pub. L. 92-463; 5 U.S.C. App.2), notice is hereby give of a meeting of the ATPAC to be held Monday, January 26, from 1 p.m. to 4:30 p.m., and Tuesday, January 27, to Wednesday, January 28, from 9 a.m. to 4:30 p.m.

The agenda for this meeting will cover: a continuation of the Committee's review of present air traffic control procedures and practices for standardization, clarification, and upgrading or terminology and procedures. It will also include:

1. Approval of Minutes.

2. Submission and Discussion of Areas of Concern.

3. Discussion of Potential Safety Items.

4. Report from Executive Director.

5. Items of Interest.

6. Discussion and agreement of location and dates for subsequent meetings.

Attendance is open to the interested public but limited to space available. With the approval of the Chairperson, members of the public may present oral statements at the meeting. Persons desiring to attend and persons persons desiring to present oral statement should notify the person listed above not later than January 16, 2004. The next quarterly meeting of the FAA ATPAC is planned to be held from April 5-8, 2004, in Washington, DC.

Any member of the public may present a written statement to the Committee at any time at the address given above.

Issued in Washington, DC, on December 17, 2003.
David W. Madison,
Acting Executive Director, Air Traffic Procedures Advisory Committee.

[FR Doc. 04-243 Filed 1-5-04; 8:45 am]

BILLING CODE 4910-13-M